NUCLEAR REGULATORY COMMISSION

[Docket No. 72-25; NRC-2009-0076]

Department of Energy; Idaho Spent Fuel Facility Independent Spent Fuel Storage Installation

AGENCY: Nuclear Regulatory Commission.

ACTION: License amendment application; docketing.

SUMMARY: The U.S. Nuclear Regulatory Commission (NRC) has docketed a license amendment application from the Department of Energy (DOE or the licensee) for amendment of Materials License No. SNM-2512, for the Idaho Spent Fuel Facility independent spent fuel storage installation located on the Idaho National Engineering Laboratory in Butte County, Idaho. If granted, the amendment would revise the technical specifications for the Idaho Spent Fuel Facility independent spent fuel storage installation (ISFSI) to add the Essential Program Control Program. The addition of the Essential Program Control Program would conform the technical specifications to those of Three Mile Island, Unit 2, and Fort St. Vrain, and allow the Idaho Spent Fuel Facility to make changes to the Quality Assurance Program, the Radiological Environmental Monitoring Program, and the Training Program.

ADDRESSES: Please refer to Docket ID NRC-2009-0076 when contacting the NRC about the availability of information regarding this document. You may obtain publicly-available information related to this document using any of the following methods:

• Federal Rulemaking Web site: Go to http://www.regulations.gov and search for Docket ID NRC-2009-0076. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jose R. Cuadrado, Office of Nuclear Material Safety and Safeguards, U.S. Nuclear Regulatory Commission, Washington, DC 20555-0001; telephone: 301-415-0606; email: Jose.Cuadrado@nrc.gov.

SUPPLEMENTARY INFORMATION:

I. Introduction

By letter dated February 17, 2015, DOE submitted to the NRC an application to amend the technical specifications for the Idaho Spent Fuel Facility ISFSI, located on the Idaho National Engineering Laboratory in Butte County, Idaho (ADAMS Accession No. ML15068A008). Materials License No. SNM-2512 authorizes the licensee to receive, store, and transfer spent nuclear fuel elements from the Peach Bottom Unit 1 reactor and various TRIGA reactors; reflector modules and rods from the Shippingport reactor; and associated radioactive materials and components related to the fuel elements' receipt, transfer, and storage. The proposed amendment would add the Essential Program Control Program to the technical specifications of the Idaho Spent Fuel Facility to conform to those of Three Mile Island, Unit 2, and Fort St. Vrain, and allow the Idaho Spent Fuel Facility to make changes to the Quality Assurance Program, the Radiological Environmental Monitoring Program, and the Training Program.

In a letter to DOE dated March 9, 2015, NRC notified DOE that the application was acceptable to begin a technical review (ADAMS Accession No. ML15068A382). The NRC's Office of Nuclear Materials Safety and Safeguards has docketed this application under Docket No. 72-25. If the NRC approves the amendment, the approval will be documented in an amendment to NRC Materials License No. SNM-2512. The Commission will approve the license amendment if it determines that the request complies with the standards and requirements of the Atomic Energy Act of 1954, as amended, and the NRC's rules and regulations, and make findings consistent with the National Environmental Policy Act and part 51 of title 10 of the Code of Federal Regulations (10 CFR). These findings will be documented in a Safety Evaluation Report.

II. Opportunity To Request a Hearing

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2), and provide notice of the action taken and an opportunity for interested persons to request a hearing on whether the action should be rescinded or modified.

Dated at Rockville, Maryland, this 17th day of April 2015.
For the Nuclear Regulatory Commission.
Michele Sampson,
Chief, Spent Fuel Licensing Branch, Division of Spent Fuel Management, Office of Nuclear Material Safety and Safeguards.

[FR Doc. 2015-09872 Filed 4-27-15; 8:45 am]

BILLING CODE 7590-01-P